DEPARTMENT OF THE INTERIOR

Bureau of Land Management

[CA-660-1430-ET, CACA 43949]

Notice of Proposed Withdrawal, Transfer of Jurisdiction, and Notice of Public Meeting; California

AGENCY: Bureau of Land Management, Interior.

ACTION: Notice of withdrawal

SUMMARY: The Department of the Navy has filed an application to withdraw approximately 3,005.99 acres of public lands for use as a mountain warfare training facility. Due to the sensitive nature of the training, the Department of the Navy has requested that administrative jurisdiction of the land be transferred from the Bureau of Land Management to the Department of the Navy.

DATES: The Department of the Navy will conduct a public meeting on January 13, 2004, from 4 to 8 p.m. at the Mountain Empire Community Center at 976 Sheridan Road, Campo, California 91906. The purpose of that meeting will be to explain the reason for the proposed withdrawal and to seek scoping comments from the public. Comments must be received by March 30, 2004.

ADDRESSES: Comments should be sent to Howard K. Stark, Chief, Branch of Lands (CA-930), Bureau of Land Management, 2800 Cottage Way, Suite 1834, Sacramento, California, 95825-1886.

FOR FURTHER INFORMATION CONTACT: Duane Marti, Realty Specialist, (916) 978-4675.

SUPPLEMENTARY INFORMATION: 1. The Department of the Navy has filed an application to withdraw the following described public lands from settlement, sale, location, or entry under the general land laws, including mining laws, subject to valid existing rights, for use as a military training facility:

San Bernardino Meridian

T.17 S., R. 5 E.,

Sec. 13, lots 8 & 9;

Sec. 14, W½;

Sec. 15, SE¼NE¼, S½SE¼;

Sec. 22, lots 1 & 2, NE¼, E½NW¼, E½SW¼, W½SE¼;

Sec. 23, lots 1 & 2, N½, E½SW¼, SE¼;

Sec. 24, lots 4, 5, 20 & 22, SW¼SW¼;

Sec. 25, W½;

Sec. 26, lots 1, 2, NE¼, E½NW¼, NE¼SW¼, N½SE¼, SE¼SE¼;

Sec. 27, lots 1, 9 & 10;

Sec. 34, lot 7, NE¼SE¼;

Sec. 35, lots 2, 3 & 4, NE¼, S½NW¼, N½SW¼, N½SE¼.

T.18 S., R. 5 E.,

Sec. 2, NE¼NE¼.

The area described contains approximately 3,005.99 acres in San Diego County, California.

2. The Department of the Navy has requested that jurisdiction of the lands described in paragraph 1 above be transferred to the Department of the Navy, so the land can be managed for use as a mountain warfare training facility, subject to valid existing rights.

3. For a period of 90 days from the date of publication of this notice, all persons who wish to submit comments, suggestions or objections, may present their views in writing to the Chief, Branch of Lands Management, California State Office, Bureau of Land Management, at the address listed above.

4. The application will be processed in accordance with the regulations set forth in 43 Code of Federal Regulations 2300.

5. In accordance with 43 Code of Federal Regulations 2310.2, the lands in paragraph 1 above are, for a period of 2 years from the date of publication of this Notice in the Federal Register, segregated from entry and appropriation under the public land laws, including the mining laws. The Bureau of Land Management may, after consulting with the Department of the Navy, allow temporary uses that are determined to be compatible with the proposed withdrawal.

Dated: November 26, 2003.
Howard K. Stark,
Chief, Branch of Lands Management.

[FR Doc. 03-32225 Filed 12-30-03; 8:45 am]

BILLING CODE 4310-40-P